DEPARTMENT OF COMMERCE

National Oceanic and Atmospheric Administration

RIN 0648-XZ64

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Scientific and Statistical Committee, on November 2-3, 2010, to consider actions affecting New England fisheries in the exclusive economic zone (EEZ). Recommendations from this group will be brought to the full Council for formal consideration and action, if appropriate.

DATES: This meeting will be held on Tuesday, November 2 at 10 a.m. and Wednesday, November 3, 2010 at 8:30 a.m.

ADDRESSES: The meeting will be held at the Providence Biltmore, 11 Dorrance Street, Providence, RI 02903; telephone: (401) 421-0700; fax: (401) 455-3050.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, November 2, 2010

The Scientific and Statistical Committee (SSC) will discuss SSC business concerning the SSC's calendar for 2011, committee activities including the National SSC Workshop, and any other outstanding SSC business. The Committee will also develop an Acceptable Biological Catch (ABC) recommendation for Gulf of Maine winter flounder based on recent analyses; develop an ABC recommendation for Georges Bank yellowtail flounder to comport with the rebuilding strategy proposed at the September Council meeting as well as finalize the annually compiled list of five-year Council research recommendations.

Wednesday, November 3, 2010

The SSC will Review the Ecosystem-Based Fishery Management draft policy paper and further consider the control rules currently used to set Acceptable Biological Catch (ABC) for all/most NEFMC-managed stocks and discuss how to best coordinate with the Council relative to the development of the control rules.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: October 8, 2010.
Tracey L. Thompson,
Acting Director, Office of Sustainable Fisheries, National Marine Fisheries Service.

[FR Doc. 2010-25889 Filed 10-13-10; 8:45 am]

BILLING CODE 3510-22-P